ENVIRONMENTAL PROTECTION AGENCY

[Docket ID No. EPA-HQ-ORD-2020-0682; FRL 12506-01-ORD]

Notice of the Final Biofuels and the Environment: Third Triennial Report to Congress

AGENCY: Environmental Protection Agency (EPA).

ACTION: Notice of availability.

SUMMARY: The Environmental Protection Agency (EPA) is announcing the availability of a final document titled, “Biofuels and the Environment: Third Triennial Report to Congress” (EPA/600/R-24/343F). The document was prepared by EPA's Offices of Research and Development (ORD) and Air and Radiation (OAR), in consultation with the U.S. Departments of Agriculture and Energy.

DATES: The document will be available on or about January 17, 2025.

ADDRESSES: The final report will be available primarily via the internet on https://www.epa.gov/risk/biofuels-and-environment or the public docket at http://www.regulations.gov, Docket ID: EPA-HQ-ORD-2020-0682.

FOR FURTHER INFORMATION CONTACT: For technical information, contact Christopher Clark; phone: 202-564-4183; or email: Clark.Christopher@epa.gov.

SUPPLEMENTARY INFORMATION:

I. Information About the Document

In 2007, Congress enacted the Energy Independence and Security Act (EISA) with the stated goals of “mov[ing] the United States toward greater energy independence and security [and] to increase the production of clean renewable fuels.” In accordance with these goals, EISA revised the Renewable Fuel Standard (RFS) Program, which was created under the 2005 Energy Policy Act and is administered by EPA, to increase the volume of renewable fuel required to be blended into transportation fuel to 36 billion gallons per year by 2022. Section 204 of EISA directs EPA, in consultation with the U.S. Departments of Agriculture and Energy, to assess and report triennially to Congress on the environmental and resource conservation impacts of the RFS Program.

The first report to Congress was completed in 2011 and provided an assessment of the environmental and resource conservation impacts associated with increased biofuel production and use (EPA/600/R-10/183F). The overarching conclusions of this first report were: (1) the environmental impacts of increased biofuel production and use were likely negative but limited in impact; (2) there was a potential for both positive and negative impacts in the future; and (3) EISA goals for biofuels production could be achieved with minimal environmental impacts if best practices were used and if technologies advanced to facilitate the use of second-generation biofuel feedstocks (corn stover, perennial grasses, woody biomass, algae, and waste).

The second report to Congress was completed in 2018 and reaffirmed the overarching conclusions of the 2011 Report (EPA/600/R-18/195). The 2018 Report noted that the biofuel production and use conditions that led to the conclusions of the 2011 Report had not materially changed, and that the production of biofuels from cellulosic feedstocks anticipated by both the EISA and the 2011 Report had not materialized. Noting observed increases in acreage for corn and soybean production in the period prior to and following implementation of the RFS2 Program, the 2018 Report concluded that the environmental and resource conservation impacts associated with land use change were likely due, at least in part, to the RFS and associated production of biofuel feedstocks.

This third report to Congress builds on the previous two reports and provides an update on the impacts to date and likely future impacts of the RFS Program on the environment. This report assesses air, water, and soil quality; ecosystem health and biodiversity; and other effects. This third report also includes new additions and approaches not previously included in the first and second reports. In particular, this third report includes a new attribution analysis designed to separate the effects of the RFS Program from other factors that also affect biofuel production and consumption in the United States.

II. Information About Peer Review of the Document

Peer review of “Biofuels and the Environment: Third Triennial Report to Congress” (External Review Draft, EPA/600/R-22/273) was managed by EPA's contractor, Eastern Research Group, Inc. (ERG). On May 9, 2022, EPA announced through an FRN (87 FR 27634) that it was seeking public comment on a pool of twenty (20) candidates identified through a previous FRN seeking nomination of experts (87 FR 5479, February 1, 2022). After considering public comment, and the balance and collective expertise of the reviewers, ERG identified two (2) additional candidates to strengthen expertise gaps in ecology, water quality, and economics, and allow a more balanced panel. On August 1, 2022, EPA announced through an FRN (87 FR 46958) that it was seeking public comment on the two (2) additional peer review candidates.

After review and consideration of public comments on the candidates submitted in response to the previous FRNs (87 FR 27634, May 9, 2022, and 87 FR 46958, August 1, 2022), EPA's contractor, ERG, selected nine (9) peer reviewers from the pool in a manner consistent with EPA's Peer Review Handbook 4th Edition, 2015 (EPA/100/B-15/001) and independently conducted a conflict of interest (COI) screening of candidates to ensure that the selected experts have no COI in conducting this review. Candidates' combined expertise spanned the following disciplines: economics, engineering, agronomics, land use change, remote sensing, air quality, biogeochemistry, water quality, hydrology, conservation biology, limnology, and ecology.

A peer review meeting to discuss the “Biofuels and the Environment: Third Triennial Report to Congress (External Review Draft)” (EPA/600/R-22/273) was held February 24-28, 2023, via webinar. EPA also announced a 60-day public comment period on January 3, 2023, via Federal Register notice (88 FR 72). The public comment period on the “Biofuels and the Environment: Third Triennial Report to Congress (External Review Draft)” (EPA/600/R-22/273) closed on March 6, 2023; EPA received fifteen public comments. The public were also invited to provide oral public comments at the February peer review meeting. The report was shared with the Office of Management and Budget for interagency review on November 13, 2023. After considering peer review, public comments, and interagency comments, EPA has prepared the final “Biofuels and the Environment: Third Triennial Report to Congress”.

Wayne Cascio,
Director, Center for Public Health and Environmental Assessment.

[FR Doc. 2025-01385 Filed 1-17-25; 8:45 am]

BILLING CODE 6560-50-P